DEPARTMENT OF DEFENSE

Office of the Secretary

[Docket ID: DoD-2021-OS-0013]

Proposed Collection; Comment Request

AGENCY: Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 17, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to OUSD P&R/Accession Policy, Pentagon Room 3D1066, 1500 Defense Pentagon, Washington, DC 20301-1500, Dennis Drogo, 703-697-9268.

SUPPLEMENTARY INFORMATION: Title; Associated Form; and OMB Number: High School Recruiter Study; OMB Control Number 0704-XXXX.

Needs and Uses: The Office of the Under Secretary of Defense for Personnel and Readiness has funded a RAND study to assess the level of access and cooperation recruiters currently experience with schools from around the country, identify high school practices and school/school district policies that may facilitate or hinder recruiter access and provide recommendations to OSD on how to improve current recruiter practices and high school compliance. RAND will use the qualitative data to assess the level of recruiter access and nature of cooperation with high schools, as well as to identify LEA/high school practices and other factors that hinder and or facilitate access.

Affected Public: Individuals or households.

Annual Burden Hours: 84.

Number of Respondents: 84.

Responses per Respondent: 1.

Annual Responses: 84.

Average Burden per Response: 1 hour.

Frequency: Annually.

Respondents are high school districts (LEAs), high school administrators (e.g. principals or vice principals) and high school counselors to examine ways to improve recruiter access to high schools.

Dated: March 12, 2021.
Aaron T. Siegel,
Alternate OSD Federal Register Liaison Officer, Department of Defense.

[FR Doc. 2021-05581 Filed 3-17-21; 8:45 am]

BILLING CODE 5001-06-P